DEPARTMENT OF HEALTH AND HUMAN SERVICES

Office of the Secretary

45 CFR Part 88

RIN 0945-AA10

Protecting Statutory Conscience Rights in Health Care; Delegations of Authority

Correction

In rule document 2019-09667 beginning on page 23170 in the issue of Tuesday, May 21, 2019 make the following correction:

On pages 23170 through 23272 the date at the top of the page should read “Tuesday, May 21, 2019”.

[FR Doc. C1-2019-09667 Filed 6-6-19; 8:45 am]

BILLING CODE 1301-00-D